ENVIRONMENTAL PROTECTION AGENCY

[OAR-2004-0500, FRL-7950-6]

Agency Information Collection Activities: Proposed Collection; Comment Request; Information Collection Activities Associated With EPA's ENERGY STAR for Homes Program, EPA ICR Number 2193.01

AGENCY: Environmental Protection Agency (EPA).

ACTION: Notice.

SUMMARY: In compliance with the Paperwork Reduction Act (44 U.S.C. 3501 et seq.), this document announces that EPA is planning to submit a proposed Information Collection Request (ICR) to the Office of Management and Budget (OMB). This is a request for a new collection. Before submitting the ICR to OMB for review and approval, EPA is soliciting comments on specific aspects of the proposed information collection as described below.

DATES: Comments must be submitted on or before October 11, 2005.

ADDRESSES: Submit your comments, referencing docket ID number OAR-2004-0500, to EPA online using EDOCKET (our preferred method), by email to a-and-r-docket@epa.gov, or by mail to: EPA Docket Center, Environmental Protection Agency, Mailcode: 6102T, 1200 Pennsylvania Ave., NW., Washington, DC 20460.

FOR FURTHER INFORMATION CONTACT: Brian Ng, ENERGY STAR Program, Mailcode: 6202J, Environmental Protection Agency, 1200 Pennsylvania Ave., NW., Washington, DC 20460; telephone number: (202) 343-9162; fax number: (202) 343-2200; e-mail address: ng.brian@epa.gov.

SUPPLEMENTARY INFORMATION: EPA has established a public docket for this ICR under Docket ID number OAR-2004-0500, which is available for public viewing at the Air and Radiation Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Air and Radiation Docket is (202) 566-1742. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected entities: Entities potentially affected by this action are home builders, home energy verification organizations, lenders, regional energy efficiency programs, home improvement contractors, and national, regional, state, or local government entities and other organizations that serve the home building or home improvement industries.

Title: Information Collection Activities Associated With EPA'S ENERGY STAR Program In The Residential Sector—ICR Number 2193.01.

Abstract: The Environmental Protection Agency (EPA) introduced ENERGY STAR in 1992 to label energy efficient computers. Since then, EPA and the Department of Energy (DOE) have expanded the ENERGY STAR Program to promote energy efficiency in over 40 product categories and in commercial and residential buildings. Increased energy efficiency through ENERGY STAR provides cost savings to businesses and homeowners, reduces greenhouse gas emissions from power plants, and increases U.S. energy security and reliability.

EPA announced ENERGY STAR for New Homes in 1995 as part of its effort to promote energy efficient construction in the new homes market. EPA rolled out its existing homes effort in 2000 to promote cost-effective upgrades to the existing homes market. These two efforts promote home envelope improvements such as the proper installation of adequate insulation, sealing of holes and gaps that allow air into the home, and installation of energy efficient windows. In addition to the home envelope, EPA promotes energy efficient heating and cooling equipment, including sealing leaky ducts that distribute conditioned air.

Currently, partners to these two ENERGY STAR efforts are not required to report information to EPA, and information received to date has been submitted voluntarily to EPA. However, EPA believes that partner feedback is essential for EPA to ensure that the current programs are meeting both partners' and EPA's expectations. EPA has developed this ICR to obtain authorization to collect information from the public, including businesses, for the following activities:

ENERGY STAR Partnership: An organization interested in joining ENERGY STAR as a partner is asked to submit a partnership agreement establishing their commitment to promoting ENERGY STAR. Partners agree to undertake efforts such as educating staff and the public about their partnership with ENERGY STAR, developing and implementing a plan to improve energy performance in homes, and highlighting achievements utilizing the ENERGY STAR logos. Partners are encouraged to undertake related activities for added benefit and/or public recognition, such as committing to build 100% ENERGY STAR qualified new homes or offering homebuyers ENERGY STAR's Advanced Lighting Package. Information collected is used to inform the public of organizations that build and promote ENERGY STAR qualified homes and make energy-efficient improvements to existing homes. Partnership is voluntary and can be terminated by partners or EPA at any time. EPA does not expect organizations to join the program unless they expect participation to be cost-effective and otherwise beneficial for them.

Outreach Partnership: Partners have the opportunity to participate in an outreach partnership with EPA to develop public education campaigns featuring the benefits of ENERGY STAR qualified homes. Partners interested in participating in the outreach program are asked to submit a form detailing their level of participation.

ENERGY STAR Awards: Each year partners are eligible for an ENERGY STAR award, which recognizes organizations demonstrating outstanding support in promoting ENERGY STAR. This award program provides partners with public recognition and market differentiation. There is an application form that is submitted to EPA by partners interested in being eligible for an award.

Quarterly Reporting: Partners are asked to submit information each calendar quarter to assist EPA in tracking and measuring progress and program implementation. This includes submitting quarterly updates on partners' level of activity in qualifying new homes for the ENERGY STAR label and activity in improving the energy efficiency of existing homes. This information is used by EPA to determine ENERGY STAR's impact on the market for energy efficient new and existing homes, its impact on residential energy demand and air pollution, and to recognize partners for promoting energy efficient homes.

Evaluation: Partners and other program participants are asked to periodically submit information to EPA as needed to assist in evaluating ENERGY STAR's effectiveness in helping organizations promote energy efficiency in homes, to assess partners' level of interest and ability in promoting ENERGY STAR in the residential sector, and to determine the impact that ENERGY STAR has on the supply and demand for energy-efficient homes and home improvement products and services. For example, EPA periodically contacts a subset of partners about their participation in the ENERGY STAR Program to determine how it has impacted their organization and areas for improvement. This information is used by EPA to make changes to ENERGY STAR's outreach efforts to better serve the needs of partners.

An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: In terms of hours, the total annual respondent burden for this three (3) year collection of information is estimated to be 5,092 hours. The average hours per year per respondent varies depending on the type of respondent, the specific collection activity, and other factors. The following is the estimated annual burden for each activity:

ENERGY STAR Partnership: The total annual burden for joining ENERGY STAR as a partner and related activities is estimated to be 2,761 hours for all respondents. The annual burden for joining as a partner is estimated to range from 1 to 2.5 hours per respondent. An additional annual burden of 40 hours per respondent is estimated for a manufactured housing partner to certify their plant as ready to produce homes eligible for ENERGY STAR qualification. The additional annual burden of 86 hours per respondent is estimated for each Home Performance with ENERGY STAR partner for implementation and reporting activities.

Outreach Partnership: The total annual burden for the outreach partnership is estimated to be 782 hours for all respondents. The annual burden is estimated to be 43 hours per respondent, which includes time for completing and submitting the commitment form as well as coordinating with other participants and EPA to develop and distribute the outreach campaign.

ENERGY STAR Awards: The total annual burden for applying for an ENERGY STAR award is estimated to be 410 hours for all respondents. The annual burden is estimated to be 10.5 hours per respondent, which includes time for preparing and submitting the awards application and supporting materials to EPA.

Quarterly Reporting: The total annual burden for providing quarterly updates on the number of ENERGY STAR qualified homes built and on market indicators for energy-efficient home improvement projects is estimated to be 321 hours for all respondents. The annual burden is estimated to be about 3.5 hours per respondent, which includes time for logging into EPA's Web-based reporting form (HOST) or using other electronic means to provide the specified information. It also includes the manual submittal of information (in 2006 only) on the number of new homes built with EPA's new Indoor Air Package.

Evaluation: The total annual burden for providing information that evaluates ENERGY STAR's value in the marketplace and its impact on residential energy use is estimated to be 818 hours for all respondents. The annual burden is estimated to range from 45 minutes to 4 hours per respondent, which includes time providing feedback on ENERGY STAR's outreach programs and materials, ENERGY STAR's impact on the supply and demand for energy efficient homes, home improvement market metrics such as the number of verified HVAC system installations and home sealing jobs performed, and time spent on the phone with ENERGY STAR account managers or responding to requests in writing.

In terms of costs, the total annual cost to respondents collectively is estimated to be $361,390. This includes an estimated total annual operation and maintenance cost of $281 for all respondents, which includes postage costs (i.e., $0.37) for each submittal of a partnership agreement to EPA by postal mail and a cost for a long distance call (i.e., $0.10) for each submittal of a partnership agreement to EPA by fax. This also includes costs for a long distance call for each submittal of an application for the outreach partnership via fax and costs of distributing print materials for the outreach campaign.

This ICR also includes an estimated annual capital cost of $35,000 for all respondents. This includes an estimated one-time cost of $3,500 per manufactured housing plant to modify its production and quality control processes to produce homes that are ready for ENERGY STAR qualification.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Home Builders, Home Energy Verification Organizations, Lenders, Regional Energy Efficiency Programs/Utilities, Home Improvement Contractors, Product Retailers, Manufactured Home Retailers, Realtors, Architects.

Estimated Annual Number of Respondents: 2,782.

Frequency of Response: One-time, annually, quarterly, and/or as-needed, depending on respondent type and collection activity.

Estimated Total Annual Hour Burden: 5,092 hours.

Estimated Total Annual Capital, Operation/Maintenance Cost Burden: $35,281.

Estimated Total Annual Cost Burden: $361,390.

Dated: August 3, 2005.
Kathleen Hogan,
Director, Climate Protection Partnerships Division.

[FR Doc. 05-15919 Filed 8-10-05; 8:45 am]

BILLING CODE 6560-50-P